SMALL BUSINESS ADMINISTRATION

[Disaster Declaration #15338 and #15339; Georgia Disaster Number GA-00101]

Presidential Declaration Amendment of a Major Disaster for Public Assistance Only for the State of Georgia

AGENCY: U.S. Small Business Administration.

ACTION: Amendment 2.

SUMMARY: This is an amendment of the Presidential declaration of a major disaster for Public Assistance Only for the State of Georgia (FEMA-4338-DR), dated 09/28/2017.

Incident: Hurricane Irma.

Incident Period: 09/07/2017 through 09/20/2017.

DATES: Issued on 10/18/2017.

Physical Loan Application Deadline Date: 11/27/2017.

Economic Injury (EIDL) Loan Application Deadline Date: 06/28/2018.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416, (202) 205-6734.

SUPPLEMENTARY INFORMATION: The notice of the President's major disaster declaration for Private Non-Profit organizations in the State of Georgia, dated 09/28/2017, is hereby amended to include the following areas as adversely affected by the disaster.

Primary Counties: Bibb, Chattahoochee, Clarke, Clinch, Decatur, Dodge, Dooly, Glascock, Grady, Gwinnett, Heard, Henry, Jefferson, Lanier, Lee, McDuffie, Mitchell, Pulaski, Stewart, Sumter, Terrell, Thomas, Towns, Twiggs, Union, Upson, Webster, White, Wilkinson

All other information in the original declaration remains unchanged.

(Catalog of Federal Domestic Assistance Number 59008)

James E. Rivera,
Associate Administrator for Disaster Assistance.

[FR Doc. 2017-23181 Filed 10-24-17; 8:45 am]

BILLING CODE 8025-01-P